DEPARTMENT OF COMMERCE

Foreign-Trade Zones Board

[B-47-2014]

Foreign-Trade Zone (FTZ) 25—Broward County, Florida; Notification of Proposed Production Activity; Prodeco Technologies, LLC (Electric Bicycles); Oakland Park, Florida

The Port Everglades Department of Broward County, grantee of FTZ 25, submitted a notification of proposed production activity to the FTZ Board on behalf of Prodeco Technologies, LLC (ProdecoTech), located in Oakland Park, Florida. The notification conforming to the requirements of the regulations of the FTZ Board (15 CFR 400.22) was received on June 27, 2014.

The ProdecoTech facility is located at 1201 NE 38th Street, Oakland Park, Florida, within proposed Site 12 of FTZ 25. A separate request for designation of the site was submitted and will be processed under Section 400.38 of the FTZ Board's regulations. The facility is used for the production of electric bicycles. Pursuant to 15 CFR 400.14(b), FTZ activity would be limited to the specific foreign-status materials and components and specific finished products described in the submitted notification (as described below) and subsequently authorized by the FTZ Board.

Production under FTZ procedures could exempt ProdecoTech from customs duty payments on the foreign status components used in export production. On its domestic sales, ProdecoTech would be able to choose the duty rates during customs entry procedures that apply to bicycles (free) for the foreign status inputs noted below. Customs duties also could possibly be deferred or reduced on foreign status production equipment.

The components and materials sourced from abroad include: Lithium batteries; battery mounts-with controllers; battery mounts (parts of batteries); bottom brackets with bearings; battery chargers; brake levers; brake disc and caliper sets; linear V-brake parts; disc brake rotors; ferrules; cable housings; chains; crank sets; cassettes (gear sets) and freewheels; derailleurs; forks; frames; grips; handlebars; hubs; bolts; washers; spacers; lock nuts; emblem-logos; kickstands; motor controllers; electric motors; wiring harnesses; pedals; rear suspension-shock absorbers; reflectors; rims; rim tape; saddles/seats; seat clamps; seat posts; shifters; spokes; spoke nipples; stems; throttles; and, rubber tires (duty rate ranges from free to 10.0%).

Public comment is invited from interested parties. Submissions shall be addressed to the FTZ Board's Executive Secretary at the address below. The closing period for their receipt is August 12, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: June 27, 2014.
Elizabeth Whiteman,
Acting Executive Secretary.

[FR Doc. 2014-15682 Filed 7-2-14; 8:45 am]

BILLING CODE 3510-DS-P